DEPARTMENT OF COMMERCE

International Trade Administration

A-533-813

Certain Preserved Mushrooms From India: Final Results of Antidumping Duty Administrative Review

AGENCY: AGENCY: Import Administration, International Trade Administration, Department of Commerce.

ACTION: Notice of final results of antidumping duty administrative review

SUMMARY: On March 8, 2005, the Department of Commerce published the preliminary results of the fifth administrative review of the antidumping duty order on certain preserved mushrooms from India. The review covers four manufacturers/exporters. The period of review is February 1, 2003, through January 31, 2004.

Based on our analysis of the comments received, we have made changes in the margin calculations for two of the four companies covered by this review. Therefore, the final results differ from the preliminary results. The final weighted-average dumping margins for the reviewed firms are listed below in the section entitled “Final Results of Review.”

EFFECTIVE DATE: June 30, 2005.

FOR FURTHER INFORMATION CONTACT: David J. Goldberger or Katherine Johnson, AD/CVD Operations, Office 2, Import Administration-Room B095, International Trade Administration, U.S. Department of Commerce, 14th Street and Constitution Avenue, NW., Washington, DC 20230; telephone: (202) 482-4136 or (202) 482-4929, respectively.

SUPPLEMENTARY INFORMATION:

Background

The review covers four manufacturers/exporters: Agro Dutch Industries Ltd. (“Agro Dutch”), Flex Foods, Ltd. (“Flex Foods”), Premier Mushroom Farms (“Premier”), and Weikfield Agro Products Ltd. (“Weikfield”). The period of review is February 1, 2003, through January 31, 2004.

On March 4, 2005, the Department of Commerce (“the Department”) published the preliminary results of the fifth administrative review of the antidumping duty order on certain preserved mushrooms from India (70 FR 10597) (“Preliminary Results”). We invited parties to comment on the preliminary results of review.

On March 2, 2005, the Department issued a final supplemental questionnaire to Flex Foods. Flex Foods responded to the supplemental questionnaire on March 22, 2005. We received case briefs from Flex Foods on April 19, 2005, and Agro Dutch on April 20, 2005. The petitioner filed a rebuttal brief on April 27, 2005. Premier and Weikfield did not comment on the preliminary results. On May 11, 2005, the Department issued a letter to Agro Dutch requesting additional information on its reporting of transportation insurance expenses. Agro Dutch submitted this information on May 18, 2005. We have conducted this administrative review in accordance with section 751(a) of the Tariff Act of 1930, as amended (“the Act”).

Scope of the Order

The products covered by this order are certain preserved mushrooms, whether imported whole, sliced, diced, or as stems and pieces. The preserved mushrooms covered under this order are the species Agaricus bisporus and Agaricus bitorquis. “Preserved mushrooms” refer to mushrooms that have been prepared or preserved by cleaning, blanching, and sometimes slicing or cutting. These mushrooms are then packed and heated in containers including but not limited to cans or glass jars in a suitable liquid medium, including but not limited to water, brine, butter or butter sauce. Preserved mushrooms may be imported whole, sliced, diced, or as stems and pieces. Included within the scope of this order are “brined” mushrooms, which are presalted and packed in a heavy salt solution to provisionally preserve them for further processing.

Excluded from the scope of this order are the following: (1) All other species of mushroom, including straw mushrooms; (2) all fresh and chilled mushrooms, including “refrigerated” or “quick blanched mushrooms”; (3) dried mushrooms; (4) frozen mushrooms; and (5) “marinated,” “acidified” or “pickled” mushrooms, which are prepared or preserved by means of vinegar or acetic acid, but may contain oil or other additives.

The merchandise subject to this order is currently classifiable under subheadings 2003.10.0127, 2003.10.0131, 2003.10.0137, 2003.10.0143, 2003.10.0147, 2003.10.0153 and 0711.51.0000 of the Harmonized Tariff Schedule of the United States (HTS). Although the HTS subheadings are provided for convenience and customs purposes, our written description of the scope of this order dispositive.

Analysis of Comments Received

All issues raised in the case and rebuttal briefs by parties to this antidumping duty administrative review are addressed in the “Issues and Decision Memorandum” (“Decision Memo”) from Barbara E. Tillman, Acting Deputy Assistant Secretary for Import Administration, to Joseph A. Spetrini, Acting Assistant Secretary for Import Administration, dated June 24, 2005, which is hereby adopted by this notice. A list of the issues which parties have raised and to which we have responded, all of which are in the Decision Memo, is attached to this notice as an Appendix. Parties can find a complete discussion of all issues raised in this review and the corresponding recommendations in this public memorandum which is on file in the Central Records Unit, room B-099 of the main Department building. In addition, a complete version of the Decision Memo can be accessed directly on the Web at http://ia.ita.doc.gov/frn. The paper copy and electronic version of the Decision Memo are identical in content.

Changes from the Preliminary Results

Based on information submitted by Agro Dutch and Flex Foods after the preliminary results and our analysis of the comments received, we have made certain changes to the margin calculations for Agro Dutch and Flex Foods:

1. We incorporated the transportation insurance expense data from Agro Dutch's original questionnaire response in our calculation in order to properly account for the expenses incurred on U.S. and Israeli sales.

2. We corrected programming errors in our preliminary results calculation affecting the currency conversions of certain expenses in the comparison market program of Agro Dutch.

3. We revised the third-country net price calculation in the comparison market program to subtract, rather than add, Agro Dutch's billing adjustment on certain third-country sales.

4. We corrected Agro Dutch's normal value calculation to deduct third-country imputed credit expense in the margin calculation program.

5. We corrected an error in the calculation of normal value where, in the preliminary results, we had inadvertently applied the currency conversion factor to the third-country billing adjustment that was already in U.S. dollars.

6. We subtracted the cost of the raw material used for research and development from Flex Foods's raw material cost and added this expense to the general and administrative (G&A) expenses in the calculation of Flex Food's G&A expense ratio. See Memo to File: Flex Foods Limited Final Results Calculation Memorandum, June 24, 2005 (Flex Foods Final Results Calculation Memorandum).

7. We recalculated Flex Foods' raw material costs to subtract the cost of raw materials consumed in the manufacturing of spawn sold to outside buyers. See Flex Foods Final Results Calculation Memorandum.

8. We recalculated Flex Foods' farming costs included in the reported material costs to reflect the costs incurred during the POR, rather than Flex Foods' 2003 - 2004 fiscal year. See Flex Foods Final Results Calculation Memorandum.

Final Results of Review

We determine that the following weighted-average margin percentages exist:

Manufacturer/exporter | Margin (percent)
Agro Dutch Industries Ltd | 0.62
Premier Mushroom Farms | 41.67
Flex Foods, Ltd. | 114.76
Weikfield Agro Products Ltd. | 25.69

Assessment

The Department shall determine, and U.S. Customs and Border Protection (“CBP”) shall assess, antidumping duties on all appropriate entries, in accordance with 19 CFR 351.212. The Department will issue appropriate appraisement instructions for the companies subject to this review directly to CBP within 15 days of publication of these final results of review. In accordance with 19 CFR 351.106(c), we will instruct CBP to assess antidumping duties on all appropriate entries covered by this review if any importer-specific assessment rate calculated in the final results of this review is above de minimis (i.e., is not less than 0.50 percent). With respect to Agro Dutch, Premier, and Weikfield, we calculated importer-specific assessment rates for the subject merchandise by aggregating the dumping margins calculated for all the U.S. sales examined and dividing this amount by the total entered value of the sales examined. For Flex Foods, because it did not report the actual entered value of its sales, we calculated importer-specific assessment rates by aggregating the dumping margins calculated for all of the U.S. sales examined and dividing this amount by the total quantity of the sales examined. To determine whether the duty assessment rates were de minimis, in accordance with the requirement set forth in 19 CFR 351.106(c)(2), we calculated importer-specific ad valorem ratios based on export prices.

Cash Deposit Requirements

The following cash deposit requirements will be effective for all shipments of the subject merchandise entered, or withdrawn from warehouse, for consumption on or after the publication date of the final results of this administrative review, as provided by section 751(a)(1) of the Act: (1) The cash deposit rates for the reviewed companies will be those established in the final results of this review, except if the rate is less than 0.50 percent, and therefore de minimis within the meaning of 19 CFR 351.106(c)(1), in which case the cash deposit rate will be zero; (2) for previously reviewed or investigated companies not listed above, the cash deposit rate will continue to be the company-specific rate published for the most recent period; (3) if the exporter is not a firm covered in this review, a prior review, or the original less-than-fair-value (“LTFV”) investigation, but the manufacturer is, the cash deposit rate will be the rate established for the most recent period for the manufacturer of the merchandise; and (4) the cash deposit rate for all other manufacturers or exporters will continue to be 11.30 percent. This rate is the “All Others” rate from the LTFV investigation. These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation. We are issuing and publishing this determination and notice in accordance with sections 751(a)(1) and 777(i) of the Act.

Dated: June 24, 2005.
Joseph Spetrini,
Acting Assistant Secretary for Import Administration.

Appendix List of Issues

Company-Specific Comments:

Agro Dutch

Comment 1: Currency Identification of Agro Dutch's Transportation Insurance Expenses

Comment 2: Currency Conversions in Agro Dutch's Comparison Market Computer Program

Comment 3: Agro Dutch's Third-Country Billing Adjustment

Comment 4: Omission of Third-Country Imputed Credit Expense in Normal Value Calculation

Flex Foods

Comment 5: Calculation of Flex Foods' Fresh Mushroom Costs

Comment 6: Calculation of Flex Foods' Financial Expense Ratio

[FR Doc. E5-3443 Filed 6-29-05; 8:45 am]

BILLING CODE 3510-DS-S